FEDERAL RESERVE SYSTEM

12 CFR Part 252

[Regulation YY; Docket No. OP-1452]

RIN 7100-AD-86

Policy Statement on the Scenario Design Framework for Stress Testing

AGENCY: Board of Governors of the Federal Reserve System.

ACTION: Proposed policy statement with request for public comment, supplementary notice.

SUMMARY: The Board of Governors of the Federal Reserve System published in the Federal Register of November 23, 2012, a document requesting public comment on a policy statement on the approach to scenario design for stress testing that would be used in connection with the supervisory and company-run stress tests conducted under the Board's regulations issued pursuant to the Dodd-Frank Wall Street Reform and Consumer Protection Act and the Board's capital plan rule. That Federal Register notice omitted the instructions for submitting comments. This document corrects that omission.

DATES: The comment period closing date for the proposed policy statement published November 23, 2012, at 77 FR 70124 remains February 15, 2013.

FOR FURTHER INFORMATION CONTACT: Tim Clark, Senior Associate Director, (202) 452-5264, Lisa Ryu, Deputy Associate Director, (202) 263-4833, or David Palmer, Senior Supervisory Financial Analyst, (202) 452-2904, Division of Banking Supervision and Regulation; Benjamin W. McDonough, Senior Counsel, (202) 452-2036, or Christine Graham, Senior Attorney, (202) 452-3099, Legal Division; or Andreas Lehnert, Deputy Director, (202) 452-3325, or Rochelle Edge, Adviser, (202) 452-2339, Office of Financial Stability Policy and Research.

ADDRESSES: Interested parties are encouraged to submit written comments identified by Docket No. OP-1452 and RIN 7100-AD-86, by any of the methods provided below. Commenters are also encouraged to identify the number of the specific question for comment to which they are responding.

• Agency Web Site: http://www.federalreserve.gov. Follow the instructions for submitting comments at http://www.federalreserve.gov/generalinfo/foia/ProposedRegs.cfm.

• Federal eRulemaking Portal: http://www.regulations.gov. Follow the instructions for submitting comments.

• E-Mail: regs.comments@federalreserve.gov. Include the docket number in the subject line of the message.

• Fax: (202) 452-3819 or (202) 452-3102.

• Mail: Robert deV. Frierson, Secretary, Board of Governors of the Federal Reserve System, 20th Street and Constitution Avenue NW., Washington, DC 20551.

All public comments are available from the Board's Web site at http://www.federalreserve.gov/generalinfo/foia/ProposedRegs.cfm as submitted, unless modified for technical reasons. Accordingly, your comments will not be edited to remove any identifying or contact information. Public comments may also be viewed electronically or in paper in Room MP-500 of the Board's Martin Building (20th and C Streets, NW.) between 9 a.m. and 5 p.m. on weekdays.

SUPPLEMENTARY INFORMATION: The Board published a document in the Federal Register of November 23, 2012, (77 FR 70124) requesting public comment on a policy statement on the approach to scenario design for stress testing that would be used in connection with the supervisory and company-run stress tests conducted under the Board's regulations issued pursuant to the Dodd-Frank Wall Street Reform and Consumer Protection Act and the Board's capital plan rule. The address to submit public comments was inadvertently omitted from that notice. This document corrects that omission.

By order of the Board of Governors of the Federal Reserve System.
Dated: February 7, 2013.
Robert deV. Frierson,
Secretary of the Board.

[FR Doc. 2013-03162 Filed 2-7-13; 4:15 pm]

BILLING CODE 6210-01-P